DEPARTMENT OF LABOR

Employment and Training Administration

[TA-W-38,486]

TYCO Electronics, The Thomas and Betts Corporation, Irvine, CA; Amended Certification Regarding Eligibility to Apply for Worker Adjustment Assistance

In accordance with Section 223 of the Trade Act of 1974 (19 U.S.C. 2273) the Department of Labor issued a Certification of Eligibility to Apply for Worker Adjustment Assistance on February 6, 2001, applicable to workers of Tyco Electronics, Irvine, California. The notice was published in the Federal Register on March 2, 2001 (66 FR 13086).

At the request of the State agency, the Department reviewed the certification for workers of the subject firm. The workers are engaged in the production of electronic connectors and cable assemblies. Information received from the State shows that Tyco Electronics purchased The Thomas and Betts Corporation in July, 2000. Information also shows that some workers separated from employment at Tyco Electronics had their wages reported under a separate unemployment insurance (UI) tax account for The Thomas and Betts Corporation.

Accordingly, the Department is amending the certification to reflect this matter.

The intent of the Department's certification is to include all workers of Tyco Electronics, Irvine, California who were adversely affected by increased imports.

The amended notice applicable to TA-W-38,486 is hereby issued as follows:

“All workers of Tyco Electronics, The Thomas and Betts Corporation, Irvine, California who became totally or partially separated from employment on or after December 11, 1999 through February 6, 2003 are eligible to apply for adjustment assistance under Section 223 of the Trade Act of 1974.”

Signed at Washington, DC this 16th day of April, 2001.
Linda G. Poole,
Certifying Officer, Division of Trade Adjustment Assistance.

[FR Doc. 01-11103 Filed 5-2-01; 8:45 am]

BILLING CODE 4510-30-M